DEPARTMENT OF ENERGY

Federal Energy Regulatory Commission

Combined Notice of Filings #1

November 2, 2010.

Take notice that the Commission received the following electric rate filings:

Docket Numbers: ER98-4109-006; ER99-3426-012; ER03-175-010; ER03-394-008; ER03-427-008; ER04-170-010; ER05-440-004; ER07-265-013; ER08-100-012; ER09-1453-003.

Applicants: El Dorado Energy, LLC; San Diego Gas & Electric Company Termoelectrica U.S., LLC; Elk Hills Power, LLC; Mesquite Power, LLC; MxEnergy Electric Inc.; Sempra Generation; Sempra Energy Solutions LLC; Sempra Energy Trading LLC; Gateway Energy Services Corporation.

Description: Sempra Supplement to Triennial Market-Based Rate Update.

Filed Date: 11/01/2010.

Accession Number: 20101101-5197.

Comment Date: 5 p.m. Eastern Time on Monday, November 22, 2010.

Docket Numbers: ER99-705-006.

Applicants: Golden Spread Electric Cooperative, Inc.

Description: Notice of Change in Status of Golden Spread Electric Cooperative, Inc.

Filed Date: 11/01/2010.

Accession Number: 20101101-5203.

Comment Date: 5 p.m. Eastern Time on Monday, November 22, 2010.

Docket Numbers: ER07-1117-018; ER05-1232-032; ER01-2765-033; ER00-2885-034; ER02-1437-008; ER02-2102-033; ER09-1141-013.

Applicants: Triton Power Michigan LLC, BE KJ LLC, Cedar Brakes I, L.L.C., Utility Contract Funding, L.L.C., Cedar Brakes II, L.L.C., J.P. Morgan Ventures Energy Corporation, J.P. Morgan Commodities Canada Corporation.

Description: BE KJ LLC, Triton Power Michigan LLC, J.P. Morgan Ventures Energy Corporation et al submits Notice of Non-Material Change in Status.

Filed Date: 10/29/2010.

Accession Number: 20101029-5258.

Comment Date: 5 p.m. Eastern Time on Friday, November 19, 2010.

Docket Numbers: ER10-1196-001.

Applicants: PJM Interconnection, L.L.C.

Description: Compliance Filing of PJM Interconnection, L.L.C.

Filed Date: 11/01/2010.

Accession Number: 20101101-5198.

Comment Date: 5 p.m. Eastern Time on Monday, November 22, 2010.

Docket Numbers: ER10-2753-002.

Applicants: Domtar Corporation.

Description: Domtar Corporation submits tariff filing per 35: eTariff Compliance Filing to be effective 9/20/2010.

Filed Date: 11/02/2010.

Accession Number: 20101102-5068.

Comment Date: 5 p.m. Eastern Time on Tuesday, November 23, 2010.

Docket Numbers: ER10-2782-001.

Applicants: Midwest Generation LLC.

Description: Midwest Generation LLC submits tariff filing per 35: Midwest Generation, LLC Reactive Supply and Voltage Control Tariff to be effective 9/21/2010.

Filed Date: 11/01/2010.

Accession Number: 20101101-5091.

Comment Date: 5 p.m. Eastern Time on Monday, November 22, 2010.

Docket Numbers: ER11-110-000.

Applicants: Oklahoma Gas & Electric Company.

Description: Request for Waiver of Oklahoma Gas & Electric.

Filed Date: 10/07/2010.

Accession Number: 20101007-5121.

Comment Date: 5 p.m. Eastern Time on Tuesday, November 9, 2010.

Docket Numbers: ER11-1987-000.

Applicants: PJM Interconnection, L.L.C.

Description: PJM Interconnection, L.L.C. submits tariff filing per 35: PJM Ministerial Filing to reflect Tariff and OA Language Accepted in ER10-1196 to be effective 1/1/2011.

Filed Date: 11/01/2010.

Accession Number: 20101101-5123.

Comment Date: 5 p.m. Eastern Time on Monday, November 22, 2010.

Docket Numbers: ER11-1988-000.

Applicants: PJM Interconnection, L.L.C.

Description: PJM Interconnection, L.L.C. submits tariff filing per 35.13(a)(2)(iii): PJM Tariff and OA Revisions—Sept. 3, 2010 Order and Directives re: ER10-1196 to be effective 1/1/2011.

Filed Date: 11/01/2010.

Accession Number: 20101101-5130.

Comment Date: 5 p.m. Eastern Time on Monday, November 22, 2010.

Docket Numbers: ER11-1989-000.

Applicants: Columbus Southern Power Company.

Description: Columbus Southern Power Company submits tariff filing per 35.12: 20101101—CSP RS and SA to be effective 11/2/2010.

Filed Date: 11/01/2010.

Accession Number: 20101101-5143.

Comment Date: 5 p.m. Eastern Time on Monday, November 22, 2010.

Docket Numbers: ER11-1990-000.

Applicants: Ohio Power Company.

Description: Ohio Power Company submits tariff filing per 35.12: 20101101—OPCo RS and SA to be effective 11/2/2010.

Filed Date: 11/01/2010.

Accession Number: 20101101-5144.

Comment Date: 5 p.m. Eastern Time on Monday, November 22, 2010.

Docket Numbers: ER11-1991-000.

Applicants: Midwest Independent Transmission System Operator, Inc.

Description: Midwest Independent Transmission System Operator, Inc. submits revisions to their Open Access Transmission, Energy and Operating Reserve Markets Tariff, FERC Electric Tariff, Fifth Revised Volume No 1, effective 3/1/2011.

Filed Date: 11/01/2010.

Accession Number: 20101101-5161.

Comment Date: 5 p.m. Eastern Time on Monday, November 22, 2010.

Docket Numbers: ER11-1992-000.

Applicants: Entergy Arkansas, Inc.

Description: Entergy Arkansas, Inc. submits tariff filing per 35.13(a)(2)(iii): Third Revised ETEC PCIA to be effective 1/1/2011.

Filed Date: 11/01/2010.

Accession Number: 20101101-5165.

Comment Date: 5 p.m. Eastern Time on Monday, November 22, 2010.

Docket Numbers: ER11-1993-000.

Applicants: Southern California Edison Company.

Description: Southern California Edison Company submits tariff filing per 35.13(a)(2)(iii): Extend Term of Eldorado Conveyance & Co-Tenancy and Communication Agreements to be effective 1/1/2011.

Filed Date: 11/01/2010.

Accession Number: 20101101-5166.

Comment Date: 5 p.m. Eastern Time on Monday, November 22, 2010.

Docket Numbers: ER11-1994-000.

Applicants: Westar Energy, Inc.

Description: Westar Energy, Inc. submits tariff filing per 35.13(a)(2)(i): Herington and Wamego, KS Schedule WTU-01/2011, Wholesale Svc Municipalities to be effective 1/1/2011.

Filed Date: 11/01/2010.

Accession Number: 20101101-5169.

Comment Date: 5 p.m. Eastern Time on Monday, November 22, 2010.

Docket Numbers: ER11-1995-000.

Applicants: Columbus Southern Power Company.

Description: Columbus Southern Power Company submits tariff filing per 35.13(a)(2)(iii): 20101101 CSP FRR Filing to be effective 11/2/2010.

Filed Date: 11/01/2010.

Accession Number: 20101101-5170.

Comment Date: 5 p.m. Eastern Time on Monday, November 22, 2010.

Docket Numbers: ER11-1996-000.

Applicants: Westar Energy, Inc.

Description: Westar Energy, Inc. submits tariff filing per 35.13(a)(2)(i): City of Eudora, KS WSM-01/2011, Wholesale Svc Municipalities to be effective 1/1/2011.

Filed Date: 11/01/2010.

Accession Number: 20101101-5172.

Comment Date: 5 p.m. Eastern Time on Monday, November 22, 2010.

Docket Numbers: ER11-1997-000.

Applicants: Ohio Power Company.

Description: Ohio Power Company submits tariff filing per 35.13(a)(2)(iii): OPCo FRR Cap Comp to be effective 11/2/2010.

Filed Date: 11/02/2010.

Accession Number: 20101102-5000.

Comment Date: 5 p.m. Eastern Time on Tuesday, November 23, 2010.

Docket Numbers: ER11-1998-000.

Applicants: Pacific Gas and Electric Company.

Description: Pacific Gas and Electric Company submits tariff filing per 35.13(a)(2)(i): McAllister Ranch Service Agreement No. 58 to be effective 1/1/2011.

Filed Date: 11/02/2010.

Accession Number: 20101102-5001.

Comment Date: 5 p.m. Eastern Time on Tuesday, November 23, 2010.

Docket Numbers: ER11-1999-000.

Applicants: New England Power Pool.

Description: New England Power Pool submits their member application and termination of memberships.

Filed Date: 11/01/2010.

Accession Number: 20101102-0201.

Comment Date: 5 p.m. Eastern Time on Monday, November 22, 2010.

Docket Numbers: ER11-2000-000.

Applicants: Florida Power Corporation.

Description: Florida Power Corporation submits tariff filing per 35.13(a)(2)(iii): Rate Schedule No. 214 of Florida Power Corporation to be effective 12/31/2010.

Filed Date: 11/02/2010.

Accession Number: 20101102-5033.

Comment Date: 5 p.m. Eastern Time on Tuesday, November 23, 2010.

Docket Numbers: ER11-2001-000.

Applicants: Pacific Gas and Electric Company.

Description: Notice of Termination of Service Agreement—Pacific Gas and Electric Company.

Filed Date: 11/01/2010.

Accession Number: 20101101-5195.

Comment Date: 5 p.m. Eastern Time on Monday, November 22, 2010.

Docket Numbers: ER11-2002-000.

Applicants: Oklahoma Gas and Electric Company.

Description: Notice of Cancellation of Rate Schedule WM-1, First Revised Service Agreement No. 93, of Oklahoma Gas and Electric Company.

Filed Date: 11/01/2010.

Accession Number: 20101101-5196.

Comment Date: 5 p.m. Eastern Time on Monday, November 22, 2010.

Docket Numbers: ER11-2003-000.

Applicants: Tucson Electric Power Company.

Description: Tucson Electric Power Company submits tariff filing per 35.12: Balancing Agreement between TEP and Red Mesa to be effective 11/3/2010.

Filed Date: 11/02/2010.

Accession Number: 20101102-5074.

Comment Date: 5 p.m. Eastern Time on Tuesday, November 23, 2010.

Docket Numbers: ER11-2004-000.

Applicants: Duke Energy Carolinas, LLC.

Description: Duke Energy Carolinas, LLC submits tariff filing per 35.13(a)(2)(iii): Revisions to Rate Schedule No. 318 to be effective 1/1/2011.

Filed Date: 11/02/2010.

Accession Number: 20101102-5084.

Comment Date: 5 p.m. Eastern Time on Tuesday, November 23, 2010.

Take notice that the Commission received the following electric securities filings:

Docket Numbers: ES11-8-000.

Applicants: PJM Interconnection, L.L.C., PJM Settlement, Inc.

Description: Application of PJM Interconnection, L.L.C., and PJM Settlement, Inc. Under Section 204 of the Federal Power Act for an Order Authorizing Issuances of Securities and Approving Guaranty.

Filed Date: 11/01/2010.

Accession Number: 20101101-5202.

Comment Date: 5 p.m. Eastern Time on Monday, November 22, 2010.

Take notice that the Commission received the following open access transmission tariff filings:

Docket Numbers: OA11-1-000; OA11-2-000.

Applicants: Golden Spread Electric Cooperative, Inc., Golden Spread Panhandle Wind Ranch, LLC.

Description: Request for Waiver of Golden Spread Electric Cooperative, Inc. and Golden Spread Panhandle Wind Ranch, LLC.

Filed Date: 11/01/2010.

Accession Number: 20101101-5194.

Comment Date: 5 p.m. Eastern Time on Monday, November 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-28212 Filed 11-8-10; 8:45 am]

BILLING CODE 6717-01-P